CHEMICAL SAFETY AND HAZARD INVESTIGATION BOARD

Sunshine Act Meeting

The U.S. Chemical Safety and Hazard Investigation Board announces that it will convene a Public Meeting beginning at 10 a.m. local time on June 4, 2002, at 2175 K Street, NW., Suite 400 Conference Room, Washington DC. The Board will discuss and deliberate on staff evaluation of responses from recipients of CSB recommendations. The Board will also hear a status report on the investigation of a chemical plant fire at Third Coast Packaging Company in Friendswood, Texas on May 1 and an explosion and fire incident at the Kaltech Company facility in the Chelsea section of New York City on April 25. In addition, the Board will hear an update on the Reactive Chemical Hazards Investigation.

At the meeting CSB staff will present to the Board proposed status assignments to recommendations resulting from several completed investigations. The assignments include categories that specify if the recommendation was successfully adopted and if it is open or closed. The Board will discuss the proposals presented by the staff.

Recommendations are issued by a vote of the Board. They address an identified safety deficiency uncovered during an investigation, and specify how to correct the situation. Safety recommendations are the primary tool used by the Board to motivate implementation of safety improvements and prevent future incidents. CSB recommendations may be directed to government entities, safety organizations, corporations, trade associations, labor unions, and others. With the issuance of a final report and recommendations, the Board begins the process that promotes saving lives and property.

All staff presentations are preliminary and are intended solely to allow the Board to consider in a public forum the relevant issues and factors. No factual analyses, conclusions, or findings should be considered final. Only after the Board has analyzed and reviewed the staff proposal, and voted to approve the status will there be a final record of board action.

The meeting is open to the public. Please notify CSB if a translator or interpreter is needed, 10 business days prior to the public meeting. For more information, please contact the Chemical Safety and Hazard Investigation Board's Office of Prevention, Outreach, and Policy, (202)-261-7600, or visit our website at: www.csb.gov.

Christopher W. Warner,
General Counsel.

[FR Doc. 02-13169 Filed 5-21-02; 3:18 pm]

BILLING CODE 6350-01-P